DEPARTMENT OF HOMELAND SECURITY

Federal Emergency Management Agency

[Internal Agency Docket No. FEMA-1859-DR; Docket ID FEMA-2008-0018]

American Samoa; Amendment No. 3 to Notice of a Major Disaster Declaration

AGENCY: Federal Emergency Management Agency, DHS.

ACTION: Notice.

SUMMARY: This notice amends the notice of a major disaster for the Territory of American Samoa (FEMA-1859-DR), dated September 29, 2009, and related determinations.

DATES: Effective Date: January 15, 2010.

FOR FURTHER INFORMATION CONTACT: Peggy Miller, Disaster Assistance Directorate, Federal Emergency Management Agency, 500 C Street, SW., Washington, DC 20472, (202) 646-3886.

SUPPLEMENTARY INFORMATION: Notice is hereby given that, in a letter dated January 15, 2010, the President amended the cost-sharing arrangements regarding Federal funds provided under the authority of the Robert T. Stafford Disaster Relief and Emergency Assistance Act, 42 U.S.C. 5121 et seq. (the “Stafford Act”), and the Insular Areas Act, in particular, 48 U.S.C. 1469a(d), in a letter to W. Craig Fugate, Administrator, Federal Emergency Management Agency, Department of Homeland Security, under Executive Order 12148, as amended, as follows:

I have determined that the damage in certain areas of the Territory of American Samoa resulting from an earthquake, tsunami, and flooding during the period of September 29 to October 6, 2009, is of sufficient severity and magnitude that special cost-sharing arrangements are warranted regarding Federal funds provided under the Robert T. Stafford Disaster Relief and Emergency Assistance Act, 42 U.S.C. 5121 et seq. (the “Stafford Act”) and the Insular Areas Act, in particular, 48 U.S.C. 1469a(d).

Therefore, I amend my declaration of September 29, 2009, to authorize Federal funds for all categories of Public Assistance, Hazard Mitigation, and the Other Needs Assistance portion of the Individual Assistance Program at 90 percent of total eligible costs, and further authorize Public Assistance (Categories A and B), including direct Federal assistance, at 100 percent of total eligible costs for 30 consecutive days.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

W. Craig Fugate,
Administrator, Federal Emergency Management Agency.

[FR Doc. 2010-1702 Filed 1-27-10; 8:45 am]

BILLING CODE 9111-23-P